Title 3—

The President

Proclamation 9270 of May 1, 2015

National Small Business Week, 2015

By the President of the United States of America

A Proclamation

America's small businesses are the backbone of our economy, employing half of our country's private sector workforce and creating nearly two out of every three new jobs in our country. Representing the quintessential American ideals of hard work and ingenuity, small businesses—from startups to mom-and-pop shops—are crucial to our national prosperity and economic security. During National Small Business Week, we recommit to advancing these vital enterprises, and we celebrate their contributions to our collective American story.

From day one, my Administration has made supporting our Nation's small businesses a priority. We have fought to ensure our tax code reflects our values and encourages growth, and part of that effort includes making sure those who take risks and do the hard work of turning a good idea into a great business get a fair deal. That is why I have signed into law 18 different tax cuts for small businesses, which are helping them thrive in the 21st-century economy. By investing in our infrastructure, expanding access to credit, and assisting entrepreneurs as they start out and scale up, we are continuing to bolster America's small business community.

My Administration is committed to ensuring small businesses have the tools, resources, and expertise they need to succeed. Last year, we built on the success of my QuickPay initiative—which has already generated over $1 billion in cost savings for small businesses—by launching SupplierPay, a new partnership with the private sector to strengthen small businesses by increasing their working capital. The Affordable Care Act is working to expand insurance coverage, reduce health care costs, and improve the quality of care—all of which help small businesses and our economy. Additionally, the law allows small businesses access to SHOP, a competitive marketplace where they can look for coverage that meets their needs and where they cannot be charged more for operating in blue-collar industries, employing women, or insuring people with pre-existing conditions. We are also focused on injecting capital into emerging, entrepreneurial communities, supporting ventures operated by women, veterans, and underserved populations. And we continue to work to open new markets for small exporters because we know trade promotion bolsters our small businesses and their employees.

Our small businesses represent what is best about our Nation—the idea that with determination and responsibility, anyone can build a better life for themselves and their loved ones. For more than two centuries, American innovation has sparked ideas that have changed our lives and the course of our history for the better. This week, we recognize the role small businesses play as pillars of our communities and engines of our growing economy, and we rededicate ourselves to fostering the entrepreneurial spirit that has forged the strongest economy the world has ever known.

NOW, THEREFORE, I, BARACK OBAMA, President of the United States of America, by virtue of the authority vested in me by the Constitution and the laws of the United States, do hereby proclaim May 4 through May 8, 2015, as National Small Business Week. I call upon all Americans to recognize the contributions of small businesses to the competitiveness of the American economy with appropriate programs and activities.

IN WITNESS WHEREOF, I have hereunto set my hand this first day of May, in the year of our Lord two thousand fifteen, and of the Independence of the United States of America the two hundred and thirty-ninth.

[FR Doc. 2015-11103

Filed 5-5-15; 11:15 am]

Billing code 3295-F5